DEPARTMENT OF ENERGY

Federal Energy Regulatory Commission

[Docket No. PF06-9-000]

Overthrust Pipeline Company; Notice of Intent To Prepare an Environmental Assessment for the Proposed Overthrust Expansion Project and Request for Comments on Environmental Issues

December 30, 2005.

The staff of the Federal Energy Regulatory Commission (FERC or Commission) will prepare an environmental assessment (EA) that will discuss the environmental impacts of the Overthrust Expansion Project involving construction and operation of facilities by Overthrust Pipeline Company (Overthrust) in Uinta and Lincoln Counties, Wyoming. The project would consist of approximately 28 miles of 36-inch-diameter pipeline and ancilliary facilities that would connect Overthrust's existing pipeline with an existing Kern River Transmission Company (Kern River) pipeline. This EA will be used by the Commission in its decision-making process to determine whether the project is in the public convenience and necessity.

This notice announces the opening of the scoping process that the Commission will use to gather environmental input from the public and interested agencies on the project. Your input will help determine which issues need to be evaluated in the EA. Please note that the scoping period will close on January 30, 2006. Details on how to submit comments are provided in the Public Participation section of this notice.

The FERC will be the lead federal agency for the preparation of the EA. The document will satisfy the requirements of the National Environmental Policy Act (NEPA). The Overthrust Expansion Project is in the preliminary design state. At this time, no formal application has been filed with the FERC. A docket number (PF06-9-000) has been established to place information filed by Overthrust, and related documents issued by the Commission, into the public record. Once a formal application is filed with the FERC, a new docket number will be established.

This notice is being sent to affected landowners; federal, state, and local government agencies; elected officials; environmental and public interest groups; Native American tribes; other interested parties; and local libraries and newspapers. State and local government representatives are asked to notify their constituents of this planned project and encourage them to comment on their areas of concern.

If you are a landowner receiving this notice, you may be contacted by a pipeline company representative about the acquisition of an easement to construct, operate, and maintain the proposed facilities. The pipeline company would seek to negotiate a mutually acceptable agreement. However, if the project is approved by the Commission, that approval conveys with it the right of eminent domain. Therefore, if easement negotiations fail to produce an agreement, the pipeline company could initiate condemnation proceedings in accordance with state law.

With this notice, we ¹ are asking other Federal, state, local, and tribal agencies with jurisdiction and/or special expertise with respect to environmental issues to cooperate with us in the preparation of the EA. Agencies that would like to request cooperating status should follow the instructions for filing comments provided below.

¹ ”We,” “us,” and “our” refer to the environmental staff of the Office of Energy Projects.

A fact sheet prepared by the FERC entitled “An Interstate Natural Gas Facility on My Land? What Do I Need to Know?” was attached to the project notice Overthrust provided to landowners. This fact sheet addresses a number of typically asked questions, including the use of eminent domain and how to participate in the Commission's proceedings. It is available for viewing on the FERC Internet Web site (http://www.ferc.gov).

Summary of the Proposed Project

Overthrust is seeking authority to construct and operate a new 36-inch-diameter pipeline, approximately 28 miles long, to be located adjacent to other existing pipeline facilities. The proposed pipeline would extend from Overthrust's existing pipeline in Uinta, Wyoming to a Kern River interconnect located at Opal Market Center in Lincoln, Wyoming and would transport up to 550,000 dekatherms of natural gas per day (Dth/d). Overthrust also proposes to construct interconnect facilities and other ancillary facilities along the proposed route including at the existing Blacks Fork Processing Plant and the Roberson Creek delivery point.

The proposed pipeline would cross land owned by five private and public landowners, the public landowners being the Bureau of Land Management (BLM) and the State of Wyoming.

A general overview map of the major project facilities is provided in Appendix 1.²

² The appendix referenced in this notice is not being printed in the Federal Register. A copy of this notice is available on the Commission's website at the “eLibrary” link or from the Commission's Public Reference Room, 888 First St., NE., Washington, DC 20426, or call (202) 502-8371. For instructions on connecting to eLibrary refer to the end of this notice. Copies of the appendix were sent to all those receiving this notice in the mail.

The EA Process

NEPA requires the Commission to take into account the environmental impacts that could result from an action whenever it considers the issuance of a Certificate of Public Convenience and Necessity. NEPA also requires us to discover and address concerns the public may have about proposals. This process is referred to as “scoping.” The main goal of the scoping process is to focus the analysis in the EA on the important environmental issues. By this Notice of Intent, we are requesting public comments on the scope of the issues that should be addressed in the EA. We will consider all comments received during scoping in the preparation of the EA.

Our independent analysis of the issues will be in the EA. Depending on the comments received during the scoping process, the EA may be published and mailed to federal, state, and local agencies; elected officials; environmental and public interest groups; other interested parties; affected landowners; Native American tribes; libraries, and newspapers; and the Commission's official service list for this proceeding. A comment period will be allotted for review if the EA is published. We will consider all comments on the EA before we make our recommendations to the Commission.

Currently Identified Environmental Issues

At this time no formal application has been filed with the FERC. For this project, the FERC staff has initiated its NEPA review prior to receiving the application. The purpose of the Commission's Pre-Filing Process is to involve interested stakeholders early in project planning and to identify and resolve issues before an application is filed with the FERC.

Public Participation

You can make a difference by providing us with your specific comments or concerns about the proposal. By becoming a commentor, your concerns will be addressed in the EA and considered by the Commission. You should focus on the potential environmental effects of the proposal, alternatives to the proposal (including alternative locations), and measures to avoid or lessen environmental impact. The more specific your comments, the more useful they will be. Please carefully follow these instructions to ensure that your comments are received in time and properly recorded:

• Send an original and two copies of your letter to: Magalie R. Salas, Secretary, Federal Energy Regulatory Commission, 888 First St., NE., Room 1A, Washington, DC 20426;

• Label one copy of the comments for the attention of the Gas Branch 1, DG2E; and

• Reference Docket No. PF06-9-000 on the original and both copies.

• Mail your comments so that they will be received in Washington, DC on or before January 30, 2006.

We will include all comments that we receive within a reasonable time frame in our environmental analysis of the project. To expedite our receipt and consideration of your comments, the Commission strongly encourages electronic submission of any comments or interventions or protests to this proceeding. See Title 18 Code of Federal Regulations (CFR) 385.2001(a)(1)(iii) and the instructions on the Commission's website at http://www.ferc.gov under the “e-Filing” link and the link to the User's Guide. Before you can submit comments, you will need to create a free account by clicking on “Login to File” and then “New User Account.” You will be asked to select the type of filing you are making. This filing is considered a Comment on Filing.

Availability of Additional Information

Additional information about the project is available from the Commission's Office of External Affairs at 1-866-208 FERC or on the FERC Internet Web Site (http://www.ferc.gov) using the “eLibrary” link. Click on the eLibrary link, click on “General Search,” and enter the docket number excluding the last three digits in the Docket Number field (i.e., PF06-9). Be sure you have selected an appropriate date range. For assistance, please contact FERC Online Support at FERCOnlineSupport@ferc.gov or toll free at 1-866-208-3676, or for TTY, contact (202) 502-8659. The eLibrary link on the FERC Internet Web site also provides access to the texts of formal documents issued by the Commission, such as orders, notices, and rule makings.

In addition, the FERC now offers a free service called eSubscription that allows you to keep track of all formal issuances and submittals in specific dockets. This can reduce the amount of time you spend researching proceedings by automatically providing you with notification of these filings, document summaries, and direct links to the documents. To register for this service, go to http://www.ferc.gov/esubscribenow.htm.

Magalie R. Salas,
Secretary.

[FR Doc. E6-182 Filed 1-11-06; 8:45 am]

BILLING CODE 6717-01-P